DEPARTMENT OF HOMELAND SECURITY

Federal Emergency Management Agency

[Docket ID FEMA-2016-0002; Internal Agency Docket No. FEMA-B-1637]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: August 2, 2016.
Roy E. Wright,
Deputy Associate Administrator for Insurance and Mitigation, Department of Homeland Security, Federal Emergency Management Agency.

State and county | Location and case No. | Chief executive officer of community | Community map repository | Online location of letter of map revision | Effective date of modification | Community No.
Alabama: Jefferson | City of Birmingham (15-04-9138P) | The Honorable William A. Bell, Sr., Mayor, City of Birmingham, 710 North 20th Street, 3rd Floor, Birmingham, AL 35203 | City Hall, 710 North 20th Street, 3rd Floor, Birmingham, AL 35203 | http://www.msc.fema.gov/lomc | Sep. 8, 2016 | 010116
Arkansas:
Benton | City of Rogers (15-06-1737P) | The Honorable Greg Hines, Mayor, City of Rogers, 301 West Chestnut Street, Rogers, AR 72756 | City Hall, 301 West Chestnut Street, Rogers, AR 72756 | http://www.msc.fema.gov/lomc | Sep. 12, 2016 | 050013
Pulaski | City of North Little Rock (15-06-4244P) | The Honorable Joe Smith, Mayor, City of North Little Rock, P.O. Box 5757, North Little Rock, AR 72119 | Planning Department, 120 Main Street, North Little Rock, AR 72114 | http://www.msc.fema.gov/lomc | Sep. 23, 2016 | 050182
Pulaski | City of Sherwood (15-06-4244P) | The Honorable Virginia Hillman Young, Mayor, City of Sherwood, P.O. Box 6256, Sherwood, AR 72120 | Engineering, Permit and Planning Department, 2199 East Kiehl Avenue, Sherwood, AR 72124 | http://www.msc.fema.gov/lomc | Sep. 23, 2016 | 050235
Colorado:
Denver | City and County of Denver (16-08-0657P) | The Honorable Michael B. Hancock, Mayor, City and County of Denver, 1437 Bannock Street, Suite 350, Denver, CO 80202 | Department of Public Works, 201 West Colfax Avenue, Denver, CO 80202 | http://www.msc.fema.gov/lomc | Sep. 29, 2016 | 080046
El Paso | City of Fountain (16-08-0082P) | The Honorable Gabriel Ortega, Mayor, City of Fountain, 116 South Main Street, Fountain, CO 80817 | Planning Division, 116 South Main Street, Fountain, CO 80817 | http://www.msc.fema.gov/lomc | Sep. 29, 2016 | 080061
El Paso | Unincorporated areas of El Paso County (16-08-0082P) | The Honorable Amy Lathen, Chair, El Paso County Board of Commissioners, 200 South Cascade Avenue, Suite 100, Colorado Springs, CO 80903 | El Paso County Regional Development Center, 2880 International Circle, Colorado Springs, CO 80910 | http://www.msc.fema.gov/lomc | Sep. 29, 2016 | 080059
Connecticut: Fairfield | Town of Trumbull (16-01-0265P) | The Honorable Timothy M. Herbst, First Selectman, Town of Trumbull Board of Selectmen, 5866 Main Street, Trumbull, CT 06611 | Town Hall, 5866 Main Street, Trumbull, CT 06611 | http://www.msc.fema.gov/lomc | Sep.23, 2016 | 090017
Florida:
Broward | City of Dania Beach (16-04-1347P) | The Honorable Marco Salvino, Sr., Mayor, City of Dania Beach, 100 West Dania Beach Boulevard, Dania Beach, FL 33004 | City Hall, 100 West Dania Beach Boulevard, Dania Beach, FL 33004 | http://www.msc.fema.gov/lomc | Sep. 14, 2016 | 120034
Broward | City of Hollywood (16-04-1347P) | The Honorable Peter Bober, Mayor, City of Hollywood, P.O. Box 229045, Hollywood, FL 33022 | City Hall, 2600 Hollywood Boulevard, Hollywood, FL 33020 | http://www.msc.fema.gov/lomc | Sep. 14, 2016 | 125113
Broward | City of Pompano Beach (16-04-3054X) | The Honorable Lamar Fisher, Mayor, City of Pompano Beach, 100 West Atlantic Boulevard, Pompano Beach, FL 33060 | Building Inspections Department, 100 West Atlantic Boulevard, Pompano Beach, FL 33060 | http://www.msc.fema.gov/lomc | Sep. 16, 2016 | 120055
Flagler | City of Bunnell (16-04-2729P) | The Honorable Catherine Robinson, Mayor, City of Bunnell, P.O. Box 756, Bunnell, FL 32110 | City Hall, 201 West Moody Boulevard, Bunnell, FL 32110 | http://www.msc.fema.gov/lomc | Sep. 22, 2016 | 120086
Flagler | City of Palm Coast (16-04-2729P) | The Honorable Jon Netts, Mayor, City of Palm Coast, 160 Lake Avenue, Palm Coast, FL 32164 | City Hall, 160 Lake Avenue, Palm Coast, FL 32164 | http://www.msc.fema.gov/lomc | Sep. 22, 2016 | 120684
Hillsborough | Unincorporated areas of Hillsborough County (16-04-3005P) | Mr. Mike Merrill, Hillsborough County Administrator, P.O. Box 1110, Tampa, FL 33601 | Hillsborough County Administrator's Office, 601 East Kennedy Boulevard, 26th Floor, Tampa, FL 33602 | http://www.msc.fema.gov/lomc | Sep. 26, 2016 | 120112
Orange | Unincorporated areas of Orange County (16-04-4432X) | The Honorable Teresa Jacobs, Mayor, Orange County, 201 South Rosalind Avenue, 5th Floor, Orlando, FL 32801 | Orange County Government Office, 201 South Rosalind Avenue, 1st Floor, Orlando, FL 32801 | http://www.msc.fema.gov/lomc | Sep. 19, 2016 | 120179
Georgia: Grady | Unincorporated areas of Grady County (16-04-4551X) | The Honorable Charlie Norton, Chairman, Grady County Board of Commissioners, 250 North Broad Street, Cairo, GA 39828 | Grady County Code Enforcement Division, 250 North Broad, Street Cairo, GA 39828 | http://www.msc.fema.gov/lomc | Sep. 29, 2016 | 130096
Kentucky
Boyle | Unincorporated areas of Boyle County (16-04-3037P) | The Honorable Harold McKinney, Boyle County Judge/Executive, 321 West Main Street, Room 111, Danville, KY 40422 | Boyle County Public Works Department, 1858 South Danville Bypass, Danville, KY 40422 | http://www.msc.fema.gov/lomc | Aug. 31, 2016 | 210322
Hardin | City of Elizabethtown (15-04-8215P) | The Honorable Edna Berger, Mayor, City of Elizabethtown, P.O. Box 550, Elizabethtown, KY 42702 | City Hall, 200 West Dixie Avenue, Elizabethtown, KY 42701 | http://www.msc.fema.gov/lomc | Sep. 19, 2016 | 210095
Hardin | Unincorporated areas of Hardin County (15-04-8215P) | The Honorable Harry L. Berry, Hardin County Judge/Executive, P.O. Box 568, Elizabethtown, KY 42702 | Hardin County Government Building, 150 North Provident Way, Elizabethtown, KY 42701 | http://www.msc.fema.gov/lomc | Sep. 19, 2016 | 210094
Maryland: Montgomery | Unincorporated areas of Montgomery County (16-03-0003P) | The Honorable Isiah Leggett, Montgomery County Executive, 101 Monroe Street, 2nd Floor, Rockville, MD 20850 | Montgomery County Department of Permitting Services, 255 Rockville Pike, Rockville, MD 20850 | http://www.msc.fema.gov/lomc | Sep. 15, 2016 | 240049
Maine: Knox | Town of Owls Head (16-01-1529P) | The Honorable Linda Post, Chair, Town of Owls Head Board of Selectmen, P.O. Box 128, Owls Head, ME 04854 | Town Hall, 224 Ash Point Drive, Owls Head, ME 04854 | http://www.msc.fema.gov/lomc | Sep. 23, 2016 | 230075
Oklahoma:
Oklahoma | City of Edmond (15-06-1048P) | The Honorable Charles Lamb, Mayor, City of Edmond, P.O. Box 2970, Edmond, OK 73083 | Engineering/Drainage Utility Department, 10 South Littler Avenue, Edmond, OK 73084 | http://www.msc.fema.gov/lomc | Sep. 12, 2016 | 400252
Oklahoma | City of The Village (14-06-4742P) | The Honorable Hutch Hibbard, Mayor, City of The Village, 2304 Manchester Drive, The Village, OK 73120 | Building and Code Department, 2304 Manchester Drive, The Village, OK 73120 | http://www.msc.fema.gov/lomc | Oct.10, 2016 | 400420
Wagoner | City of Broken Arrow (14-06-4075P) | The Honorable Craig Thurmond, Mayor, City of Broken Arrow, 220 South 1st Street, Broken Arrow, OK 74012 | Operations Building, 485 North Poplar Avenue, Broken Arrow, OK 74012 | http://www.msc.fema.gov/lomc | Oct.3, 2016 | 400236
Wagoner | Unincorporated areas of Wagoner County (14-06-4075P) | The Honorable Chris Edwards, Chairman, Wagoner County Board of Commissioners, P.O. Box 156, Wagoner, OK 74477 | Wagoner County Courthouse, 307 East Cherokee Street, Wagoner, OK 74467 | http://www.msc.fema.gov/lomc | Oct.3, 2016 | 400215
Creek | City of Sapulpa (16-06-0371P) | The Honorable Reg Green, Mayor, City of Sapulpa, P.O. Box 1130, Sapulpa, OK 74067 | Urban Development Department, 425 East Dewey Avenue, Sapulpa, OK 74067 | http://www.msc.fema.gov/lomc | Sep. 12, 2016 | 400053
Creek | Unincorporated areas of Creek County (16-06-0371P) | The Honorable Newt Stephens, Jr., Chairman, Creek County Board of Commissioners, 317 East Lee Avenue, Suite 103, Sapulpa, OK 74067 | Creek County Stormwater Management Department, 317 East Lee Avenue, Suite 102, Sapulpa, OK 74067 | http://www.msc.fema.gov/lomc | Sep. 12, 2016 | 400490
Tulsa | City of Jenks (16-06-0371P) | The Honorable Kelly Dunkerley, Mayor, City of Jenks, P.O. Box 2007, Jenks, OK 74037 | Engineering Department, 211 North Elm Street, Jenks, OK 74037 | http://www.msc.fema.gov/lomc | Sep. 12, 2016 | 400209
Tulsa | City of Tulsa (15-06-0631P) | The Honorable Dewey F. Bartlett, Jr., Mayor, City of Tulsa, 175 East 2nd Street, 15th Floor, Tulsa, OK 74103 | Planning and Development Department, 175 East 2nd Street, 4th Floor, Tulsa, OK 74103 | http://www.msc.fema.gov/lomc | Sep. 13, 2016 | 405381
Tulsa | Unincorporated areas of Tulsa County (15-06-0631P) | The Honorable Karen Keith, Chair, Tulsa County Board of Commissioners, 500 South Denver Avenue, Tulsa, OK 74103 | Tulsa County, Inspections Office, 633 West 3rd Street, Room 140, Tulsa, OK 74127 | http://www.msc.fema.gov/lomc | Sep. 13, 2016 | 400462
Tulsa | Unincorporated areas of Tulsa County (16-06-0371P) | The Honorable Karen Keith, Chair, Tulsa County Board of Commissioners, 500 South Denver Avenue, Tulsa, OK 74103 | Tulsa County Inspections Office, 633 West 3rd Street, Room 140, Tulsa, OK 74127 | http://www.msc.fema.gov/lomc | Sep. 12, 2016 | 400462
Pennsylvania:
Dauphin | Township of Derry (15-03-0854P) | The Honorable Marc A. Moyer, Chairman, Township of Derry Board of Supervisors, 600 Clearwater Road, Hershey, PA 17033 | Community Development Department, 600 Clearwater Road, Hershey, PA 17033 | http://www.msc.fema.gov/lomc | Sep. 9, 2016 | 420376
Dauphin | Township of Londonderry (15-03-0854P) | The Honorable Bart Shellenhamer, Chairman, Township of Londonderry Board of Supervisors, 783 South Geyers Church Road, Middletown, PA 17057 | Township Hall, 783 South Geyers Church Road, Middletown, PA 17057 | http://www.msc.fema.gov/lomc | Sep. 9, 2016 | 420383
Dauphin | Township of Lower Swatara (15-03-0854P) | The Honorable Thomas L. Mehaffie III, President, Township of Lower Swatara, Board of Commissioners, 1499 Spring Garden Drive, Middletown, PA 17057 | Township Municipal Building, 1499 Spring Garden Drive, Middletown, PA 17057 | http://www.msc.fema.gov/lomc | Sep. 9, 2016 | 420385
South Carolina:
Charleston | Town of Mount Pleasant (16-04-3547P) | The Honorable Linda Page, Mayor, Town of Mount Pleasant, 100 Ann Edwards Lane, Mount Pleasant, SC 29464 | Planning Department, 100 Ann Edwards Lane, Mount Pleasant, SC 29464 | http://www.msc.fema.gov/lomc | Oct. 3, 2016 | 455417
Charleston | Unincorporated areas of Charleston County (16-04-3547P) | The Honorable J. Elliott Summey, Chairman, Charleston County Board of Commissioners, 4045 Bridge View Drive, North Charleston, SC 29405 | Charleston County Building Inspection Services Department, 4045 Bridge View Drive, North Charleston, SC 29405 | http://www.msc.fema.gov/lomc | Oct. 3, 2016 | 455413
South Dakota:
Meade | City of Sturgis (15-08-0375P) | The Honorable Mark Carstensen, Mayor, City of Sturgis, 1040 Harley-Davidson Way, Sturgis, SD 57785 | Planning and Permitting Office, 1040 Harley-Davidson Way, Sturgis, SD 57785 | http://www.msc.fema.gov/lomc | Sep. 15, 2016 | 460055
Minnehaha | City of Hartford (16-08-0101P) | The Honorable Bill Campbell, Mayor, City of Hartford, 125 North Main Avenue, Hartford, SD 57033 | City Hall, 125 North Main Avenue, Hartford, SD 57033 | http://www.msc.fema.gov/lomc | Sep. 23, 2016 | 460180
Minnehaha | Unincorporated areas of Minnehaha County (16-08-0101P) | The Honorable Cindy Heiberger, Chair, Minnehaha County Board of Commissioners, 415 North Dakota Avenue, Sioux Falls, SD 57104 | Minnehaha County Administration Building, 415 North Dakota Avenue, Sioux Falls, SD 57104 | http://www.msc.fema.gov/lomc | Sep. 23, 2016 | 460057
Tennessee:
Washington | City of Johnson City (16-04-1191P) | The Honorable Clayton Stout, Mayor, City of Johnson City, 601 East Main Street, Johnson City, TN 37601 | Public Works Department, 601 East Main Street, Johnson City, TN 37601 | http://www.msc.fema.gov/lomc | Sep. 29, 2016 | 480582
Washington | Unincorporated areas of Washington County (16-04-1191P) | The Honorable Dan Eldridge, Mayor, Washington County, 100 East Main Street, Jonesborough, TN 37659 | Washington County Zoning Department, 100 East Main Street, Jonesborough, TN 37659 | http://www.msc.fema.gov/lomc | Sep. 29, 2016 | 470265
Texas:
Collin | City of Frisco (16-06-0556P) | The Honorable Maher Maso, Mayor, City of Frisco, 6101 Frisco Square Boulevard, Frisco, TX 75034 | Engineering Services Department, 6101 Frisco Square Boulevard, Frisco, TX 75034 | http://www.msc.fema.gov/lomc | Sep. 19, 2016 | 480134
Collin | City of McKinney (16-06-0082P) | The Honorable Brian Loughmiller, Mayor, City of McKinney, P.O. Box 517, McKinney, TX 75070 | Engineering Department, 221 North Tennessee Street, McKinney, TX 75069 | http://www.msc.fema.gov/lomc | Oct. 3, 2016 | 480135
Collin | City of McKinney (16-06-0593P) | The Honorable Brian Loughmiller, Mayor, City of McKinney, P.O. Box 517, McKinney, TX 75070 | Engineering Department, 221 North Tennessee Street, McKinney, TX 75069 | http://www.msc.fema.gov/lomc | Sep. 12, 2016 | 480135
Dallas | City of Coppell (16-06-0213P) | The Honorable Karen Hunt, Mayor, City of Coppell, P.O. Box 9478, Coppell, TX 75019 | Engineering Department, 265 Parkway Boulevard, Coppell, TX 75019 | http://www.msc.fema.gov/lomc | Oct. 3, 2016 | 480170
Ellis | City of Waxahachie (15-06-1366P) | The Honorable Kevin Strength, Mayor, City of Waxahachie, 401 South Rogers Street, Waxahachie, TX 75165 | City Hall, 401 South Rogers Street, Waxahachie, TX 75165 | http://www.msc.fema.gov/lomc | Sep. 14, 2016 | 480211
Fort Bend | City of Sugar Land (15-06-1008P) | The Honorable James A. Thompson, Mayor, City of Sugar Land, P.O. Box 110, Sugar Land, TX 77487 | City Hall, 2700 Town Center, Boulevard North, Sugar Land, TX 77479 | http://www.msc.fema.gov/lomc | Sep. 13, 2016 | 480234
Fort Bend | Unincorporated areas of Fort Bend County (15-06-1008P) | The Honorable Robert Hebert, Fort Bend County Judge, 401 Jackson Street, Richmond, TX 77469 | Fort Bend County Engineering Department, 401 Jackson Street, Richmond, TX 77469 | http://www.msc.fema.gov/lomc | Sep. 13, 2016 | 480228
Fort Bend | Unincorporated areas of Fort Bend County (16-06-0935P) | The Honorable Robert Hebert, Fort Bend County Judge, 401 Jackson Street, Richmond, TX 77469 | Fort Bend County Engineering Department, 401 Jackson Street, Richmond, TX 77469 | http://www.msc.fema.gov/lomc | Sep. 30, 2016 | 480228
Montgomery | Unincorporated areas of Montgomery County (15-06-4246P) | The Honorable Craig B. Doyal, Montgomery County Judge, 501 North Thompson Street, Suite 401, Conroe, TX 77301 | Montgomery County Permitting Department, 501 North Thompson Street, Suite 100, Conroe, TX 77301 | http://www.msc.fema.gov/lomc | Sep. 14, 2016 | 480483
Waller | Unincorporated areas of Waller County (16-06-0935P) | The Honorable Carbett “Trey” Duhon III, Waller County Judge, 836 Austin Street, Suite 203, Hempstead, TX 77445 | Waller County Annex Building, 775 Business Highway, 290 East Hempstead, TX 77445 | http://www.msc.fema.gov/lomc | Sep. 30, 2016 | 480640
Williamson | City of Georgetown (14-06-4362P) | The Honorable Dale Ross, Mayor, City of Georgetown, 113 East 8th Street, Georgetown, TX 78626 | Building Official's Office, 300 Industrial Avenue, Georgetown, TX 78626 | http://www.msc.fema.gov/lomc | Sep. 15, 2016 | 480668
Williamson | Unincorporated areas of Williamson County (14-06-4362P) | The Honorable Dan A. Gattis, Williamson County Judge, 710 South Main Street, Georgetown, TX 78626 | Williamson County Road and Bridge Division, 3151 Southeast Inner Loop, Suite B, Georgetown, TX 78626 | http://www.msc.fema.gov/lomc | Sep. 15, 2016 | 481079
Virginia:
Prince William | City of Manassas Park (16-03-0885P) | The Honorable Frank Jones, Mayor, City of Manassas Park, 1 Park Center Court, Manassas Park, VA 20111 | Department of Public Works, 331 Manassas Drive, Manassas Park, VA 20111 | http://www.msc.fema.gov/lomc | Sep. 15, 2016 | 510123
Prince William | Unincorporated areas of Prince William. County (16-03-0885P) | Mr. Christopher E. Martino, Acting Prince William County Executive, 1 County Complex Court, Prince William, VA 22192 | Prince William County Department of Public Works, 5 County Complex Court, Prince William, VA 22192 | http://www.msc.fema.gov/lomc | Sep. 15, 2016 | 510119

[FR Doc. 2016-18971 Filed 8-9-16; 8:45 am]

BILLING CODE 9110-12-P